ENVIRONMENTAL PROTECTION AGENCY

40 CFR Part 50

[EPA-HQ-OAR-2005-0159; FRL-8316-5]

RIN 2060-AN40

Final Rule on the Treatment of Data Influenced by Exceptional Events; Correction

AGENCY: Environmental Protection Agency (EPA).

ACTION: Correcting Amendments.

SUMMARY: The EPA issued a final rule on March 22, 2007, entitled “Treatment of Data Influenced by Exceptional Events.” The rule governs the review and handling of air quality monitoring data determined to be influenced by exceptional events. This document makes minor corrections to language contained in the regulatory text for the rule.

EFFECTIVE DATE: This document is effective on May 22, 2007.

FOR FURTHER INFORMATION CONTACT: For questions regarding these corrections, contact Mr. Larry Wallace, U.S. Environmental Protection Agency, Office of Air Quality Planning and Standards, Mail Code C539-02, Research Triangle Park, NC 27711, phone number (919) 541-0906 or by e-mail at: wallace.larry@epa.gov.

SUPPLEMENTARY INFORMATION:

Background

The EPA issued the final rule on “The Treatment of Data Influenced by Exceptional Events” on March 22, 2007, 72 FR 13560.

Need for Correction

As published, the final regulations contain errors which may prove to be misleading and are in need of clarification. EPA finds that there is good cause to make these corrections without providing for notice and comment, and for making these corrections effective immediately upon publication, because neither notice or comment, nor a delayed effective date, is necessary and would not be in the public interest due to the nature of the corrections which are minor, technical, and non-controversial.

The final action, without notice and comment, and the immediate effective date for this action is authorized under 5 U.S.C. 553(d)(3)(B) and 553(d)(3) which allows an effective date less than 30 days after publication if “as otherwise provided by the agency for cause found and published with the rule.” As indicated above, the final rule on Exceptional Events was published after notice and comment on March 22, 2007 and becomes effective on May 21, 2007, 60 days from publication. Thus, additional notice and comment for these minor technical corrections is unnecessary under 5 U.S.C. 553(b)(3)(B) and EPA finds that good cause exists for these corrections to become effective immediately.

Corrections of Rule

In the final rule for “The Treatment of Data Influenced by Exceptional Events”, 72 FR 13560, March 22, 2007, correction is being made to the regulatory text of the rule beginning at 40 CFR 50.14(c) and to the title of 40 CFR part 51. This action makes a correction under the section entitled “Treatment of air quality monitoring data influenced by exceptional events.” Under § 50.14(c)(2) entitled “Schedules and procedures”, “Flagging of data”, change subsection (i) to remove the reference to 40 CFR 58.16 and to read as follows:

(i) A State shall notify EPA of its intent to exclude one or more measured exceedances of an applicable ambient air quality standard as being due to an exceptional event by placing a flag in the appropriate field for the data record of concern which has been submitted to the AQS database.

The final correction being made to the rule begins on page 13581, column two. Change the title of the section to read as follows:

PART 51—REQUIREMENTS FOR PREPARATION, ADOPTION, AND SUBMITTAL OF IMPLEMENTATION PLANS”

Dated: May 15, 2007.
Stephen L. Johnson,
Administrator.

In consideration of the foregoing, the Environmental Protection Agency amends 40 CFR parts 50 and 51 as follows:

PART 50—NATIONAL PRIMARY AND SECONDARY AMBIENT AIR QUALITY STANDARDS

1. The authority citation for part 50 continues to read as follows:

Authority: 42 U.S.C. 7401 et seq.

2. Section 50.14 (c)(2)(i) is revised to read as follows:

§ 50.14 Treatment of air quality monitoring data influenced by exceptional events.

* * * * *

(c) * * *

(2) Flagging of data.

(i) A State shall notify EPA of its intent to exclude one or more measured exceedances of an applicable ambient air quality standard as being due to an exceptional event by placing a flag in the appropriate field for the data record of concern which has been submitted to the AQS database.

* * * * *

PART 51—REQUIREMENTS FOR PREPARATION, ADOPTION, AND SUBMITTAL OF IMPLEMENTATION PLANS

3. The authority citation for part 50 continues to read as follows:

Authority: 23 U.S.C. 101; 42 U.S.C. 7401-7671Q.

4. The heading for part 51 is revised to read as set forth above.

[FR Doc. E7-9892 Filed 5-21-07; 8:45 am]

BILLING CODE 6560-50-P